INTERNATIONAL TRADE COMMISSION

[Investigation No. 337-TA-556]

In the Matter of Certain High-Brightness Light Emitting Diodes and Products Containing Same; Notice of Commission Decision Not To Review an Initial Determination Granting Complainant's Motion To Amend the Complaint

AGENCY: International Trade Commission.

ACTION: Notice.

SUMMARY: Notice is hereby given that the U.S. International Trade Commission has determined not to review an initial determination (“ID”) of the presiding administrative law judge (“ALJ”) granting complainant's motion to amend the complaint in the above-captioned investigation.

FOR FURTHER INFORMATION CONTACT: Clint Gerdine, Esq., Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 8, 2005, based on a complaint filed by Lumileds Lighting U.S., LLC (“Lumileds”) of San Jose, California. 70 FR 73026. The complaint, as amended and supplemented, alleges violations of section 337 of the Tariff Act of 1930, as amended, 19 U.S.C. **1337, in the importation into the United States, the sale for importation, and the sale within the United States after importation of certain high-brightness light emitting diodes (“LEDs”) and products containing same by reason of infringement of claims 1 and 6 of U.S. Patent No. 5,008,718; claims 1-3, 8-9, 16, 18, and 23-28 of U.S. Patent No. 5,376,580; and claims 12-16 of U.S. Patent No. 5,502,316. The complaint further alleges the existence of a domestic industry. The Commission's notice of investigation named Epistar Corporation (“Epistar”) of Hsinchu, Taiwan, and United Epitaxy Company (“UEC”) of Hsinchu, Taiwan as respondents.

On April 28, 2006, Lumileds moved to amend the complaint to: (1) Remove UEC as a named respondent, (2) change the complainant's full name from Lumileds Lighting U.S., LLC to Philips Lumileds Lighting Company LLC, and (3) identify additional Epistar LEDs alleged to infringe one or more patents-in-suit. The remaining respondent did not oppose the motion.

On October 23, 2006, the ALJ issued the subject ID granting Lumileds' motion, and further ordering that the Notice of Investigation be amended to identify the actual parties in the above-captioned investigation. No party petitioned for review of the ID pursuant to 19 CFR 210.43(a), and the Commission found no basis for ordering a review on its own initiative pursuant to 19 CFR 210.44. The Commission has determined not to review this ID.

The authority for the Commission's determination is contained in section 337 of the Tariff Act of 1930, as amended, 19 U.S.C. 1337, and in sections 210.14 and 210.42(c)) of the Commission's Rules of Practice and Procedure, 19 CFR 210.14, 210.42(c)).

By order of the Commission.
Issued: November 6, 2006.
Marilyn R. Abbott,
Secretary to the Commission.

[FR Doc. E6-19071 Filed 11-9-06; 8:45 am]

BILLING CODE 7020-02-P